DEPARTMENT OF STATE

[Public Notice No. 3606]

Secretary of State's Advisory Committee on Private International Law: Study Group on Arbitration and Other Forms of ADR; Meeting Notice

There will be a public meeting of a study group of the Secretary of State's Advisory Committee on Private International Law on Saturday, April 28, 2001, to consider a draft UNCITRAL Model Law on Conciliation. The meeting will be held from 12:30 p.m. to 2:30 p.m. in the Alexandria room of the Marriott Crystal Gateway Hotel, 1700 Jefferson Davis Highway, Arlington, Virginia.

The purpose of the Study Group meeting is to assist the Department of State prepare the U.S. position for the upcoming session of the UNCITRAL Working Group on Arbitration. The UNCITRAL Working Group is meeting May 21-June 1 in New York.

The study group meeting will consider a draft of the Model Law on Conciliation (Doc. A/CN.9/WG.II/WP.113/Add.1) prepared by the UNCITRAL Secretariat based on the discussion of the Working Group at its last meeting in November 2000. A report of the November session of the Working Group is also available (Doc. A/CN.9/485). Persons interested in the work of the study group or in attending April 28 meeting in Virginia may request copies of the documents from Ms. Rosie Gonzales by fax at 202-776-8482, by telephone at 202-776-8420 (you may leave your request, name, telephone number, email, or mailing address on the answering machine), or by email at <gonzaler@ms.state.gov>. Email is the quickest and most efficient way to transmit the documents.

The study group meeting is open to the public up to the capacity of the meeting room. Any person who is unable to attend, but wishes to have his or her views considered, may send comments to Ms. Gonzales at the above fax number or email address, or may address them to the Assistant Legal Adviser for Private International Law (L/PIL), Suite 203, South Building, 2430 E Street, NW., Washington, DC 20037-2851.

Jeffrey D. Kovar,
Assistant Legal Adviser for Private International Law, Department of State.

[FR Doc. 01-9994 Filed 4-18-01; 2:39 pm]

BILLING CODE 4710-08-P